DEFENSE NUCLEAR FACILITIES SAFETY BOARD

FOIA Fee Schedule Update

AGENCY: Defense Nuclear Facilities Safety Board.

ACTION: Notice.

SUMMARY: The Defense Nuclear Facilities Safety Board is publishing its annual update to the Freedom of Information Act (FOIA) Fee Schedule pursuant to 10 CFR 1703.107(b)(6) of the Board's regulations.

DATES: Effective Date: May 1, 2006.

FOR FURTHER INFORMATION CONTACT: Kenneth M. Pusateri, General Manager, Defense Nuclear Facilities Safety Board, 625 Indiana Avenue, NW., Suite 700, Washington, DC 20004-2901, (202) 694-7060.

SUPPLEMENTARY INFORMATION: The FOIA requires each Federal agency covered by the Act to specify a schedule of fees applicable to processing of requests for agency records. 5 U.S.C. 552(a)(4)(i). On March 15, 1991, the Board published for comment in the Federal Register its proposed FOIA Fee Schedule. 56 FR 11114. No comments were received in response to that notice and the Board issued a final Fee Schedule on May 6, 1991.

Pursuant to 10 CFR 1703.107(b)(6) of the Board's regulations, the Board's General Manager will update the FOIA Fee Schedule once every 12 months. Previous Fee Schedule updates were published in the Federal Register and went into effect, most recently, on May 1, 2005, 27 FR 20739.

Board Action

Accordingly, the Board issues the following schedule of updated fees for services performed in response to FOIA requests:

Defense Nuclear Facilities Safety Board Schedule of Fees for FOIA Services

(Implementing 10 CFR 1703.107(b)(6))

Search or Review Charge: $60.00 per hour.

Copy Charge (paper): $.05 per page, if done in-house, or generally available commercial rate (approximately $.09 per page).

Electronic Media: $5.00.

Copy Charge (audio cassette): $3.00 per cassette.

Duplication of Video: $25.00 for each individual videotape; $16.50 for each additional individual videotape.

Copy Charge for large documents (e.g., maps, diagrams): Actual commercial rates.

Dated: April 10, 2006.
Kenneth M. Pusateri,
General Manager.

[FR Doc. E6-5603 Filed 4-14-06; 8:45 am]

BILLING CODE 3670-01-P